DEPARTMENT OF TRANSPORTATION

Federal Aviation Administration

14 CFR Part 39

[Docket No. FAA-2012-0755; Directorate Identifier 99-CE-65-AD; Amendment 39-17217; AD 2000-07-11 R1]

RIN 2120-AA64

Airworthiness Directives; Piaggio Aero Industries S.p.A.

AGENCY: Federal Aviation Administration (FAA), Department of Transportation (DOT).

ACTION: Final rule; rescission.

SUMMARY: We are rescinding an airworthiness directive (AD) for all Piaggio Aero Industries S.p.A Model P-180 airplanes. That AD was prompted by mandatory continuing airworthiness information (MCAI) issued by the airworthiness authority for Italy. We issued that AD to prevent the brake hydraulic fluid from leaking because of the brake assembly rods contacting the brake valve tubing, which could result in the inability to adequately stop the airplane during ground operations. Since we issued that AD, we have determined this is no longer an unsafe condition and that regularly scheduled annual inspections address this subject.

DATES: This AD is effective November 21, 2012.

ADDRESSES: You may examine the AD docket on the Internet at http://www.regulations.gov or in person at Document Management Facility, U.S. Department of Transportation, Docket Operations, M-30, West Building Ground Floor, Room W12-140, 1200 New Jersey Avenue SE., Washington, DC 20590.

FOR FURTHER INFORMATION CONTACT: Mike Kiesov, Aerospace Safety Engineer, FAA, Small Airplane Directorate, 901 Locust, Kansas City, Missouri 64106; telephone: (816) 329-4144; fax: (816) 329-4090; email: mike.kiesov@faa.gov.

SUPPLEMENTARY INFORMATION:

Discussion

We issued a notice of proposed rulemaking (NPRM) to amend 14 CFR part 39 by rescinding AD 2000-07-11 (65 FR 19305, April 11, 2000) that applies to the specified products. That NPRM was published in the Federal Register on July 19, 2012 (77 FR 42454). The MCAI states:

After a 1999 training session during which conflicting inputs were given to the brake pads between pilot and copilot, a brake system rod was found deflected. The rod, in this bent condition, could possibly wear and damage the tubings connected to the brake valves, with consequent fluid leakage.

Prompted by these findings, PAI issued Service Bulletin (SB) 80-0107, providing instructions for repetitive inspections of the affected rods and tubings. As this was considered to be a potentially unsafe condition, Registro Aeronautico Italiano (RAI), the predecessor of ENAC (Ente Nazionale per l'Aviazione Civile), issued Prescrizione di Aeronavigabilità (PA) No. 1999-219, which required the repetitive inspections as detailed in PAI SB 80-0107 and, depending on findings, replacement of rod or tubing.

Since that AD was issued, the repetitive inspections of SB 80-0107 have been included as regular tasks into the maintenance schedule of both Avanti and Avanti II aeroplanes. In addition, no other cases of brake system bent rods have been reported, nor have any rods been replaced for damage in the P.180 fleet since that occurrence. Based on the available information, this is no longer considered to be an unsafe condition. Prompted by this determination, PAI issued Revision ZZ of SB 80-0107, which cancels the original SB 80-0107.

For the reasons described above, this Notice is issued to cancel ENAC PA no. 1999-219 dated 03 May 1999.

Comments

We gave the public the opportunity to participate in developing this AD. We received no comments on the NPRM (77 FR 42454, July 19, 2012) or on the determination of the cost to the public.

Conclusion

We reviewed the relevant data and determined that rescinding the AD will not affect air safety and will reduce the burden on the public. We will rescind the AD as proposed except for minor editorial changes. We have determined that these minor changes:

• Are consistent with the intent that was proposed in the NPRM (77 FR 42454, July 19, 2012) for correcting the unsafe condition; and

• Do not add any additional burden upon the public than was already proposed in the NPRM (77 FR 42454, July 19, 2012).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2000-07-11, Amendment 39-11665 (65 FR 19305, April 11, 2000), and adding the following new AD:

2000-07-11 R1 Piaggio Aero Industries S.p.A.: Amendment 39-17217; Docket No. FAA-2012-0755; Directorate Identifier 99-CE-65-AD.

(a) Effective Date

This airworthiness directive (AD) becomes effective November 21, 2012.

(b) Affected ADs

This AD rescinds AD 2000-07-11 (65 FR 19305, April 11, 2000).

(c) Applicability

This AD applies to Piaggio Aero Industries S.p.A. Model P-180 airplanes, all serial numbers, certificated in any category.

(d) Subject

Joint Aircraft System Component (JASC)/Air Transport Association (ATA) of America Code 32; Landing Gear.

Issued in Kansas City, Missouri, on October 9, 2012.
Earl Lawrence
Manager, Small Airplane Directorate, Aircraft Certification Service.

[FR Doc. 2012-25254 Filed 10-16-12; 8:45 am]

BILLING CODE 4910-13-P